DEPARTMENT OF VETERANS AFFAIRS

[OMB Control No. 2900-0387]

Agency Information Collection Activities Under OMB Review

AGENCY: Veterans Benefits Administration, Department of Veterans Affairs

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before September 4, 2001.

FOR FURTHER INFORMATION OR A COPY OF THE SUBMISSION CONTACT: Denise McLamb, Information Management Service (045A4), Department of Veterans Affairs, 810 Vermont Avenue, NW, Washington, DC 20420, (202) 273-8030, FAX (202) 273-5981 or e-mail denise.mclamb@mail.va.gov. Please refer to “OMB Control No. 2900-0387.”

SUPPLEMENTARY INFORMATION: Title: Request for Verification of Deposit, VA Form 26-8497a.

OMB Control Number: 2900-0387.

Type of Review: Extension of a currently approved collection.

Abstract: VA is prohibited from guaranteeing or making any loan unless the contemplated terms of payment required in any mortgage to be given in part payment of the purchase price or the construction cost bear a proper relation to the veteran's present and anticipated income and expenses and that the veteran is a satisfactory credit risk. Lenders making guaranteed and insured loans use the form to verify the applicant's deposits in banks and other savings institutions. It is also used to process direct loans, offers on acquired properties, and release from liability/substitution of entitlement cases when needed. In these types of cases, part I of the form is completed by the lender and signed by the applicant then forwarded to the depository. The depository completes part II, verifying the applicant's deposits, providing information and payment experience on outstanding loans, and returns the form to the lender.

An agency may not conduct or sponsor, and a person is not required to respond to a collection of information unless it displays a currently valid OMB control number. The Federal Register Notice with a 60-day comment period soliciting comments on this collection of information was published on April 26, 2001, at pages 21042-21043.

Affected Public: Business or other for-profit.

Estimated Annual Burden: 16,318 hours.

Estimated Average Burden Per Respondent: 5 minutes.

Frequency of Response: On occasion.

Estimated Number of Respondents: 195,817.

Send comments and recommendations concerning any aspect of the information collection to VA's OMB Desk Officer, OMB Human Resources and Housing Branch, New Executive Office Building, Room 10235, Washington, DC 20503 (202) 395-7316. Please refer to “OMB Control No. 2900-0387” in any correspondence.

Dated: July 12, 2001.
By direction of the Secretary.
Donald L. Neilson,
Director, Information Management Service.

[FR Doc. 01-19295 Filed 8-1-01; 8:45 am]

BILLING CODE 8320-01-P